CONSUMER PRODUCT SAFETY COMMISSION

Agency Information Collection Activities; Submission for Office of Management and Budget Review; Comment Request; Requirements for Non-Full-Size Baby Cribs

AGENCY: Consumer Product Safety Commission.

ACTION: Notice.

SUMMARY: The Consumer Product Safety Commission (“CPSC” or “Commission”) is announcing that a proposed collection of information has been submitted to the Office of Management and Budget (“OMB”) for review and clearance under the Paperwork Reduction Act of 1995 (“PRA”).

DATES: Fax written comments on the collection of information by October 27, 2010.

ADDRESSES: To ensure that comments on the information collection are received, OMB recommends that written comments be faxed to the Office of Information and Regulatory Affairs, OMB, Attn: CPSC Desk Officer, FAX: 202-395-6974, or e-mailed to oira_submission@omb.eop.gov. All comments should be identified with the OMB control number 3041-0012. In addition, written comments also should be submitted by e-mail to cpsc-os@cpsc.gov, or by mail/hand delivery/courier (for paper, disk, or CD-ROM submissions), preferably in five copies, to: Office of the Secretary, Consumer Product Safety Commission, Room 820, 4330 East West Highway, Bethesda, MD 20814; telephone (301) 504-7923.

FOR FURTHER INFORMATION CONTACT: Linda Glatz, Division of Policy and Planning, Office of Information Technology, Consumer Product Safety Commission, 4330 East West Highway, Bethesda, MD 20814, 301-504-7671, lglatz@cpsc.gov.

SUPPLEMENTARY INFORMATION: In compliance with 44 U.S.C. 3507, the CPSC has submitted the following proposed collection of information to OMB for review and clearance: Requirements for Non-Full-Size Baby Cribs—(OMB Control Number 3041-0012—Extension).

The safety regulations for non-full-size baby cribs (also referred to as “non-full-size cribs”) are codified at 16 CFR Part 1509 and 16 CFR 1500.18(a)(14). These regulations were issued to reduce hazards of strangulation, suffocation, pinching, bruising, laceration, and other injuries associated with non-full-size cribs. (A non-full-size crib is a crib having an interior length greater than 55 inches or smaller than 49¾; inches; or an interior width greater than 30⅝; inches or smaller than 25⅜; inches; or both.) The regulations prescribe performance, design, and labeling requirements for non-full-size cribs. They also require manufacturers and importers of those products to maintain sales records for a period of three years after the manufacture or importation of non-full-size cribs. If any non-full-size cribs subject to provisions of 16 CFR 1500.18(a)(14) and part 1509 fail to comply in a manner to warrant a recall, the required records can be used by the manufacturer or importer and by the Commission to identify those persons and firms who should be notified of the recall.

In the Federal Register of June 28, 2010 (75 FR 36637), the CPSC published a 60-day notice requesting public comment on the proposed collection of information. No comments were received.

We estimate the burden of this collection of information as follows. Approximately 16 firms manufacture or import non-full-size baby cribs and are subject to the record keeping requirements. The Commission staff estimates that the record keeping will take five hours per firm for obtaining the information from existing sales and distribution data. The annualized cost to respondents for the burden for collection of information is approximately $2,222. This estimated cost to respondents is based on 80 hours (16 firms × 5 hours each) multiplied by a cost of $27.78 per hour (Bureau of Labor Statistics, Total Compensation, All workers, goods-producing industries, Sales and office, September 2009, Table 9) or $2,222.40, which we have rounded down to $2,222.

The cost to the government (wages and benefits) for 8 hours staff time to review the information (½ hour per firm) is approximately $655. Assuming that the employee reviewing the records will be a GS-14 level employee, the average hourly wage rate for a mid-level GS-14 employee in the Washington, DC metropolitan area, effective as of January 2010, is $57.33. This represents 70 percent of total compensation (Bureau of Labor Statistics, March 2010, percentage wages and salaries for all civilian management, professional, and related employees, Table 1). Adding an additional 30 percent for benefits brings average hourly compensation for a mid-range GS-14 employee to $81.89. Thus, 8 hours multiplied against an hourly compensation figure of $81.89 results in an estimated cost to the government of $655.12, which we have rounded down to $655.

Dated: September 21, 2010.
Todd A. Stevenson,
Secretary, Consumer Product Safety Commission.

[FR Doc. 2010-24130 Filed 9-24-10; 8:45 am]

BILLING CODE 6355-01-P